DEPARTMENT OF ENERGY

Federal Energy Regulatory Commission

Combined Notice of Filings #1

January 24, 2011.

Take notice that the Commission received the following electric rate filings:

Docket Numbers: ER98-4109-007; ER03-175-011; ER03-427-009; ER05-440-005; ER99-3426-013.

Applicants: El Dorado Energy, LLC; Termoelectrica U.S., LLC; Mesquite Power, LLC; Sempra Generation; San Diego Gas & Electric Company.

Description: Notice of Category 1 Status for Northwest Region, et. al.

Filed Date: 01/21/2011.

Accession Number: 20110121-5131.

Comment Date: 5 p.m. Eastern Time on Friday, February 11, 2011.

Docket Numbers: ER10-1730-001; ER10-1731-001.

Applicants: Great Bay Energy, LLC, Great Bay Energy I, LLC.

Description: Notice of Non-Material Change In Status for Great Bay Energy, LLC and Great Bay Energy I, LLC.

Filed Date: 01/21/2011.

Accession Number: 20110121-5081.

Comment Date: 5 p.m. Eastern Time on Friday, February 11, 2011.

Docket Numbers: ER10-1862-001; ER10-1864-001; ER10-1865-001; ER10-1873-001; ER10-1875-001; ER10-1876-001; ER10-1878-001; ER10-1883-001; ER10-1884-001; ER10-1885-001; ER10-1888-001; ER10-1938-001; ER10-1941-001; ER10-1942-001; ER10-1947-001; ER10-2042-001.

Applicants: Calpine Energy Services, L.P., South Point Energy Center, LLC, Delta Energy Center, LLC, Geysers Power Company, LLC, Otay Mesa Energy Center, LLC, Calpine Power America—CA, LLC, Pastoria Energy Center, LLC, Metcalf Energy Center, LLC, Los Medanos Energy Center LLC, Los Esteros Critical Energy Facility LLC, Goose Haven Energy Center, LLC, Gilroy Energy Center, LLC, Creed Energy Center, LLC, Calpine Gilroy Cogen, L.P., Power Contract Financing, L.L.C., Calpine Construction Finance Co., L.P.

Description: Second Supplemental to Updated Market Power Analysis—Calpine Energy Services, L.P.

Filed Date: 01/21/2011.

Accession Number: 20110121-5132.

Comment Date: 5 p.m. Eastern Time on Friday, February 11, 2011.

Docket Numbers: ER10-2571-001.

Applicants: Wisconsin Electric Power Company.

Description: Wisconsin Electric Power Company submits tariff filing per 35: Coordination Sales Tariff Compliance Filing to be effective 9/9/2010.

Filed Date: 01/24/2011.

Accession Number: 20110124-5000.

Comment Date: 5 p.m. Eastern Time on Monday, February 14, 2011.

Docket Numbers: ER10-2572-001.

Applicants: Wisconsin Electric Power Company.

Description: Wisconsin Electric Power Company submits tariff filing per 35: Tariff for Sales of Ancillary Services Compliance Filing to be effective 9/9/2010.

Filed Date: 01/21/2011.

Accession Number: 20110121-5115.

Comment Date: 5 p.m. Eastern Time on Friday, February 11, 2011.

Docket Numbers: ER10-3007-002.

Applicants: Moraine Wind II LLC.

Description: Moraine Wind II LLC submits tariff filing per 35: Compliance Filing of Revised Record Version of Tariff to be effective 9/27/2010.

Filed Date: 01/21/2011.

Accession Number: 20110121-5028.

Comment Date: 5 p.m. Eastern Time on Friday, February 11, 2011.

Docket Numbers: ER10-3009-002.

Applicants: Pebble Springs Wind LLC.

Description: Pebble Springs Wind LLC submits tariff filing per 35: Compliance Filing of Revised Record to be effective 9/27/2010.

Filed Date: 01/24/2011.

Accession Number: 20110124-5197.

Comment Date: 5 p.m. Eastern Time on Monday, February 14, 2011.

Docket Numbers: ER11-22-002.

Applicants: Midwest Independent Transmission System Operator, Inc.

Description: Midwest Independent Transmission System Operator, Inc. submits tariff filing per 35: H075 Compliance to be effective 10/5/2010.

Filed Date: 01/24/2011.

Accession Number: 20110124-5097.

Comment Date: 5 p.m. Eastern Time on Monday, February 14, 2011.

Docket Numbers: ER11-2196-002.

Applicants: San Luis Solar LLC.

Description: San Luis Solar LLC submits tariff filing per 35: Compliance Filing to Initial MBR Tariff to be effective 1/28/2011.

Filed Date: 01/24/2011.

Accession Number: 20110124-5131.

Comment Date: 5 p.m. Eastern Time on Monday, February 14, 2011.

Docket Numbers: ER11-2335-002.

Applicants: Plum Point Services Company, LLC.

Description: Plum Point Services Company, LLC submits tariff filing per 35.17(b): Plum Point Services FERC Electric Tariff No. 1 to be effective 12/10/2010.

Filed Date: 01/24/2011.

Accession Number: 20110124-5192.

Comment Date: 5 p.m. Eastern Time on Monday, February 14, 2011.

Docket Numbers: ER11-2337-001.

Applicants: Otter Tail Power Company.

Description: Otter Tail Power Company submits tariff filing per 35.17(b): Amendment to Revisions to Transmission Capacity Exchange Agreement to be effective 12/1/2010.

Filed Date: 01/21/2011.

Accession Number: 20110121-5097.

Comment Date: 5 p.m. Eastern Time on Tuesday, February 01, 2011.

Docket Numbers: ER11-2399-001.

Applicants: Eurus Combine Hills I LLC.

Description: Eurus Combine Hills I LLC submits tariff filing per 35: Revised Compliance Filing to be effective 12/18/2010.

Filed Date: 01/21/2011.

Accession Number: 20110121-5080.

Comment Date: 5 p.m. Eastern Time on Friday, February 11, 2011.

Docket Numbers: ER11-2700-001.

Applicants: Midwest Independent Transmission System Operator, Inc.

Description: Midwest Independent Transmission System Operator, Inc. submits tariff filing per 35.17(b): 01-21-11 CMMPA Amendment to be effective 7/28/2010.

Filed Date: 01/21/2011.

Accession Number: 20110121-5113.

Comment Date: 5 p.m. Eastern Time on Friday, February 11, 2011.

Docket Numbers: ER11-2721-000.

Applicants: Ameren Services Company.

Description: Notice of Cancellation of Service Agreements for Wholesale Distribution Service of Ameren Services Company.

Filed Date: 01/21/2011.

Accession Number: 20110121-5082.

Comment Date: 5 p.m. Eastern Time on Friday, February 11, 2011.

Docket Numbers: ER11-2722-000.

Applicants: Schuylkill Energy Resources, Inc.

Description: Schuylkill Energy Resources, Inc. submits tariff filing per 35.12: Initial Baseline Tariff to be effective 1/21/2011.

Filed Date: 01/21/2011.

Accession Number: 20110121-5111.

Comment Date: 5 p.m. Eastern Time on Friday, February 11, 2011.

Docket Numbers: ER11-2723-000.

Applicants: PacifiCorp.

Description: PacifiCorp submits tariff filing per 35.13(a)(2)(iii): Noble Americas Energy Solutions NITSA to be effective 1/1/2011.

Filed Date: 01/21/2011.

Accession Number: 20110121-5112.

Comment Date: 5 p.m. Eastern Time on Friday, February 11, 2011.

Docket Numbers: ER11-2724-000.

Applicants: Black Hills Colorado IPP, LLC.

Description: Black Hills Colorado IPP, LLC submits tariff filing per 35.12: MBR Application of Black Hills Colorado IPP, LLC to be effective 6/1/2011.

Filed Date: 01/21/2011.

Accession Number: 20110121-5114.

Comment Date: 5 p.m. Eastern Time on Friday, February 11, 2011.

Docket Numbers: ER11-2725-000.

Applicants: Southwest Power Pool, Inc.

Description: Southwest Power Pool, Inc. submits tariff filing per 35.13(a)(2)(iii): 1605R1 Elk City Wind II, LLC GIA to be effective 12/22/2010.

Filed Date: 01/21/2011.

Accession Number: 20110121-5116.

Comment Date: 5 p.m. Eastern Time on Friday, February 11, 2011.

Docket Numbers: ER11-2726-000.

Applicants: Black Hills Colorado IPP, LLC.

Description: Black Hills Colorado IPP, LLC submits tariff filing per 35.12: Power Purchase Agreement with BH Colorado Electric to be effective 6/1/2011.

Filed Date: 01/21/2011.

Accession Number: 20110121-5117.

Comment Date: 5 p.m. Eastern Time on Friday, February 11, 2011.

Docket Numbers: ER11-2727-000.

Applicants: Public Service Company of New Mexico.

Description: Public Service Company of New Mexico submits tariff filing per 35.12: Service Agreement No. 362 SPS 39MW Conditional Firm to be effective 6/1/2011.

Filed Date: 01/24/2011.

Accession Number: 20110124-5001.

Comment Date: 5 p.m. Eastern Time on Monday, February 14, 2011.

Docket Numbers: ER11-2728-000.

Applicants: Pacific Gas and Electric Company.

Description: Pacific Gas and Electric Company submits tariff filing per 35.13(a)(2)(iii): CCSF IA—Addition of Historic Tariff Content to be effective 1/24/2011.

Filed Date: 01/24/2011.

Accession Number: 20110124-5005.

Comment Date: 5 p.m. Eastern Time on Monday, February 14, 2011.

Docket Numbers: ER11-2729-000.

Applicants: Massachusetts Electric Company, The Narragansett Electric Company.

Description: Massachusetts Electric Company, et al. Request for Limited Waiver and Expedited Consideration.

Filed Date: 01/21/2011.

Accession Number: 20110121-5129.

Comment Date: 5 p.m. Eastern Time on Monday, January 31, 2011.

Docket Numbers: ER11-2730-000.

Applicants: Energy Exchange International, LLC.

Description: Energy Exchange International, LLC submits tariff filing per 35.12: Energy Exchange International, LLC Electric Tariff Original Volume No 1 to be effective 3/1/2011.

Filed Date: 01/24/2011.

Accession Number: 20110124-5072.

Comment Date: 5 p.m. Eastern Time on Monday, February 14, 2011.

Docket Numbers: ER11-2731-000.

Applicants: Heritage Stoney Corners Wind Farm I, LLC.

Description: Heritage Stoney Corners Wind Farm I, LLC submits tariff filing per 35.12: Market-Based Rate Initial Tariff Baseline to be effective 1/24/2011.

Filed Date: 01/24/2011.

Accession Number: 20110124-5076.

Comment Date: 5 p.m. Eastern Time on Monday, February 14, 2011.

Docket Numbers: ER11-2732-000.

Applicants: San Diego Gas & Electric Company.

Description: San Diego Gas & Electric Company submits tariff filing per 35.13(a)(2)(iii): Revision to SDG&E FERC Electric Tariff to be effective 1/21/2011.

Filed Date: 01/24/2011.

Accession Number: 20110124-5153.

Comment Date: 5 p.m. Eastern Time on Monday, February 14, 2011.

Docket Numbers: ER11-2733-000.

Applicants: Avista Corporation..

Description: Avista Corporation submits tariff filing per 35.12: Parallel Operating and Construction Agreement to be effective 1/25/2011.

Filed Date: 01/24/2011.

Accession Number: 20110124-5168.

Comment Date: 5 p.m. Eastern Time on Monday, February 14, 2011.

Docket Numbers: ER11-2734-000.

Applicants: Plum Point Energy Associates, LLC.

Description: Plum Point Energy Associates, LLC submits tariff filing per 35: Plum Point Energy MBR Tariff to be effective 3/24/2011.

Filed Date: 01/24/2011.

Accession Number: 20110124-5198.

Comment Date: 5 p.m. Eastern Time on Monday, February 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2011-2150 Filed 1-31-11; 8:45 am]

BILLING CODE 6717-01-P